DEPARTMENT OF TRANSPORTATION

Federal Aviation Administration

Approval of Noise Compatibility Program for Laughlin/Bullhead International Airport, Bullhead City, Arizona

AGENCY: Federal Aviation Administration, DOT.

ACTION: Notice.

SUMMARY: The Federal Aviation Administration (FAA) announces its findings on the noise compatibility program submitted by the Mohave County Airport Authority (MCAA) under the provisions of 49 U.S.C. 47501 et seq. (formerly the Aviation Safety and Noise Abatement Act, hereinafter referred to as “the Act”) and Title 14, Code of Federal Regulations (CFR) Part 150 (hereinafter referred to as “Part 150”). On November 21, 2013, the FAA determined that the noise exposure maps submitted by the MCAA under Part 150 were in compliance with applicable requirements. On January 11, 2016, the FAA approved the Laughlin/Bullhead International Airport Noise Compatibility Program. All of the recommendations of the program were approved. No program elements relating to new or revised flight procedures for noise abatement were proposed.

DATES: Effective Date: This notice is effective January 26, 2016 and applicable January 11, 2016.

FOR FURTHER INFORMATION CONTACT: Jared Raymond, Airport Planner, FAA Phoenix Airports District Office, 3800 North Central Avenue, Suite 1025, Phoenix, Arizona 85012, telephone number (602) 792-1072. Documents reflecting this FAA action may be reviewed at this same location.

SUPPLEMENTARY INFORMATION: This notice announces that the FAA has given its overall approval to the Noise Compatibility Program for Laughlin/Bullhead International Airport, effective January 11, 2016. Under Section 104(a) of the Aviation Safety and Noise Abatement Act of 1979, as amended (herein after referred to as the “Act”) [recodified as 49 U.S.C. 47504], an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Part 150 is a local program, not a Federal program. The FAA does not substitute its judgment for that of the airport proprietor with respect to which measures should be recommended for action. The FAA's approval or disapproval of Part 150 program recommendations is measured according to the standards expressed in Part 150 and the Act, and is limited to the following determinations:

a. The Noise Compatibility Program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, Section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where federal funding is sought, requests for project grants must be submitted to the FAA Airports District Office in Phoenix, Arizona.

The MCAA submitted to the FAA on July 29, 2013, the Noise Exposure Maps for evaluation. The FAA determined that the Noise Exposure Maps for Laughlin/Bullhead International Airport were in compliance with applicable requirements on November 21, 2013. Notice of this determination was published in the Federal Register on November 29, 2013 (Volume 78/No. 230/pages 71706-71707).

The Laughlin/Bullhead International Airport study contains a proposed noise compatibility program comprised of actions designed for phased implementation by airport management and adjacent jurisdictions. It was requested that the FAA evaluate and approve this material as a Noise Compatibility Program as described in 49 U.S.C. 47504 (formerly Section 104(b) of the Act). The FAA began its review of the program on July 23, 2015, and was required by a provision of the Act to approve or disapprove the program within 180 days (other than the use of new or modified flight procedures for noise control). Failure to approve or disapprove such program within the 180-day period shall be deemed to be an approval of such program.

The Noise Compatibility Program recommended one (1) Noise Abatement Element, seven (7) Land Use Planning Measures and three (3) Program Management Elements. The FAA completed its review and determined that the procedural and substantive requirements of the Act and Part 150 have been satisfied. The overall program was approved, with the partial disapproval of two (2) Land Use Management Measures by the Manager of the Airports Division, Western-Pacific Region, effective January 11, 2016.

Approval was granted for one Noise Abatement Measure, partial approval was granted for two of the seven Land Use Management Elements, and approval granted for all three Program Management Elements. The approved Noise Abatement Measure includes: Develop a Pilot and Public Education Program. The Land Use Management Measures include the following: Designate the Public Disclosure Map Boundary on the General Plan; Revise the General Plan designations for compatible land uses to help preserve those compatible land uses (industrial, commercial, open space) within the noise contours; Rezone for compatible use all areas within the noise contours; The City of Bullhead City should adopt an airport compatibility checklist for discretionary review of projects within the vicinity of the airport; Mohave County Airport Authority and the City of Bullhead City should provide access to the Airport's Disclosure Map on their respective Web sites; Establish communication between the Airport and the City of Bullhead City Public Works Department. FAA approved in part and disapproved in part the following Land Use Management Measures: Designate the Public Disclosure Map Boundary on the General Plan; and Amend Airport Noise and Height Overlay Zone.

The approved Program Management Elements include the following: Update Noise Exposure Maps and Noise Compatibility Program; Monitor implementation of the Part 150 Noise Compatibility Program; and Maintain system for receiving and responding to noise complaints.

The FAA determinations are set forth in detail in the Record of Approval signed by the Manager of the Airports Division, Western-Pacific Region, on January 11, 2016. The Record of Approval, as well as other evaluation materials and the documents comprising the submittal, are available for review at the FAA office listed above and at the administrative offices of the Laughlin/Bullhead International Airport. The Record of Approval also will be available on-line at: http://www.faa.gov/airports/environmental/airport_noise/part_150/states/.

Issued in Hawthorne, California, on January 15, 2016.
Mia Paredes Ratcliff,
Acting Manager, Airports Division, Western-Pacific Region, AWP-600.

[FR Doc. 2016-01416 Filed 1-25-16; 8:45 am]

BILLING CODE 4910-13-P